NATIONAL FOUNDATION ON THE ARTS AND THE HUMANITIES

Institute of Museum and Library Services; Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

TIME AND DATE: Wednesday, January 30, 2008 from 1:30 p.m. to 4:30 p.m.

AGENDA: Thirteenth National Museum and Library Services Board Meeting:

I. Welcome.

II. Approval of Minutes.

III. Financial Update.

IV. Legislative Update.

V. Board Program: An Overview of State Library Programs.

VI. Board Updates.

VII. Adjournment.

(Open to the Public).

PLACE: The meeting will be held in the Perdue Board Room at the High Museum of Arts, 1280 Peachtree Street, NE., Atlanta, Georgia. Telephone: (404) 733-4400.

FOR FURTHER INFORMATION CONTACT: Elizabeth Lyons, Special Events and Board Liaison, Institute of Museum and Library Services, 1800 M Street, NW., 9th Floor, Washington, DC 20036. Telephone: (202) 653-4676.

SUPPLEMENTARY INFORMATION: The National Museum and Library Services Board is established under the Museum and Library Services Act, 20 U.S.C. section 9101 et seq. The Board advises the Director of the Institute on general policies with respect to the duties, powers, and authorities related to Museum and Library Services. If you need special accommodations due to a disability, please contact: Institute of Museum and Library Services, 1800 M Street, NW., 9th FL., Washington DC 20036. Telephone: (202) 653-4676; TDD (202) 653-4699 at least seven (7) days prior to the meeting date.

Dated: January 10, 2008.
Kate Fernstrom,
Chief of Staff.

[FR Doc. 08-116 Filed 1-11-08; 11:12 am]

BILLING CODE 7036-01-M